AGENCY FOR INTERNATIONAL DEVELOPMENT

Senior Executive Service: Membership of Performance Review Board

ACTION: Notice.

SUMMARY: This notice provides a list of approved candidates who comprise a standing roster for service on the Agency's 2022 SES Performance Review Board. The Agency will use this roster to select SES Performance Review Board members.

FOR FURTHER INFORMATION CONTACT: Lena Travers at 202-712-5636 or ltravers@usaid.gov.

SUPPLEMENTARY INFORMATION:

The standing roster is as follows:

Anoka, Jeffrey

Bader, Harry

Baker, Shawn

Ball, Kimberly

Bernton, Jeremy

Bertram, Robert

Broderick, Deborah

Buckley, Ruth

Davis, Thomas

Detherage, Maria Price

Ehmann, Claire

Feinstein, Barbara

Girod, Gayle

Jenkins, Robert

Jin, Jun

Johnson, Mark

Knudsen, Ciara

Kuyumjian, Kent

Longi, Maria

Lucas, Rachel

Maltz, Gideon

McGill, Brian

Mitchell, Reginald

Nims, Matthew

Ohlweiler, John

Pascocello, Susan

Pryor, Jeanne

Pustejovsky, Brandon

Schulz, Laura

Singh, Sukhvinder

Sokolowski, Alexander

Taylor, Margaret

Voorhees, John

Walther, Mark

Willis, Lindsey

Karen Baquedano,
Director, Center for Performance Excellence.

[FR Doc. 2022-12620 Filed 6-10-22; 8:45 am]

BILLING CODE 6116-01-P